DEPARTMENT OF COMMERCE

National Oceanic and Atmospheric Administration

[I.D. 011806B]

Pacific Fishery Management Council; Public Meeting/Workshop

AGENCY: National Marine Fisheries Service (NMFS), National Oceanic and Atmospheric Administration (NOAA), Commerce.

ACTION: Notice of public meeting.

SUMMARY: The Groundfish Stock Assessment Review (STAR) Panel for yelloweye rockfish will hold a work session which is open to the public.

DATES: The yelloweye rockfish STAR Panel meeting will be held beginning at 1 p.m., February 13, 2006. The meeting will continue on February 14, 2006 beginning at 8:30 a.m. through February 15, 2006. The meetings will end at 5 p.m. each day, or as necessary to complete business.

ADDRESSES: The yelloweye rockfish STAR Panel meeting will be held at the Human Resources Division Conference Room, Building 1, at the National Oceanic and Atmospheric Administration (NOAA) Western Regional Center's Sand Point Facility, 7600 Sand Point Way NE., Seattle, WA 98115-6349.

Council address: Pacific Fishery Management Council, 7700 NE Ambassador Place, Suite 200, Portland, OR 97220-1384.

FOR FURTHER INFORMATION CONTACT: Ms. Stacey Miller, Northwest Fisheries Science Center (NWFSC); telephone: 206-860-3480; or Mr. John DeVore, Pacific Fishery Management Council; telephone: 503-820-2280.

SUPPLEMENTARY INFORMATION: The purpose of this meeting is to review draft yelloweye rockfish stock assessment documents and any other pertinent stock information, work with the Stock Assessment Team to make necessary revisions to the draft yelloweye rockfish stock assessment, and produce a STAR Panel report for use by the Council family and other interested persons. No management actions will be decided by the STAR Panel. The STAR Panel's role will be development of recommendations and reports for consideration by the Council at its March meeting in Seattle, Washington.

Entry to the NOAA Western Regional Center's Sand Point Facility requires visitors to show a valid picture ID and register with security. A visitor's badge, which must be worn while at the NOAA Western Regional Center's Facility, will be issued to non-Federal employees participating in the meeting.

Although nonemergency issues not contained in the meeting agenda may come before the STAR Panel meeting participants for discussion, those issues may not be the subject of formal STAR panel meeting action during this meeting. STAR Panel meeting action will be restricted to those issues specifically listed in this notice and any issues arising after publication of this notice that require emergency action under section 305(c) of the Magnuson-Stevens Fishery Conservation and Management Act, provided the public has been notified of the STAR panel meeting participants' intent to take final action to address the emergency.

Special Accommodations

This meeting is physically accessible to people with disabilities. Requests for sign language interpretation or other auxiliary aids should be directed to Ms. Carolyn Porter at 503-820-2280 at least five days prior to the meeting date.

Dated: January 18, 2006.
Emily Menashes,
Acting Director, Office of Sustainable Fisheries, National Marine Fisheries Service.

[FR Doc. E6-727 Filed 1-20-06; 8:45 am]

BILLING CODE 3510-22-S